DEPARTMENT OF AGRICULTURE

Forest Service

Newspapers To Be Used for Publication of Legal Notice of Appealable Decisions Under 36 CFR Part 217, 36 CFR Part 215 and 36 CFR Part 218 for the Southern Region; KY

AGENCY: Forest Service, USDA.

ACTION: Notice and correction.

SUMMARY: On November 1, 2005, the USDA Forest Service published a notice of newspapers to be used for publication of Legal Notices under 36 CFR part 217 and corrections under 36 CFR part 215 and 36 CFR part 218 for the Southern Region. This notice corrects the listed newspapers for Kentucky as a result of the December 27, 2005 decision to re-organize the Daniel Boone National Forest from six (6) to four (4) districts. Deciding Officers in the southern Region will publish notice of decisions subject to administrative appeal under 36 CFR part 217 in the legal notice section of the newspapers listed in the SUPPLEMENTARY INFORMATION section of this notice. As provided in 36 CFR part 217.5(d), the public shall be advised through Federal Register notice, of the newspaper of record to be utilized for publishing legal notice of decisions. Newspaper publication of notice of decisions is in addition to direct notice of decisions to those who have requested it and to those who have participated in project planning. The Responsible Official gave notice in the Federal Register published on November 1, 2005, of newspapers of record to be utilized for publishing notice of proposed actions and of decisions subject to appeal under 36 CFR part 215.5 and for publishing notice of opportunities to object to proposed authorized hazardous fuel reduction projects under 36 CFR part 218.4. The list of newspapers to be used for 215 notice and decision and 218 notice of objection opportunities is as listed in the SUPPLEMENTARY INFORMATION section of this notice.

DATES: Use of these newspapers for purposes of publishing legal notice of decisions subject to appeal under 36 CFR part 217 shall begin on or after the date of this publication.

FOR FURTHER INFORMATION CONTACT: Cheryl Herbster, Regional Appeals Coordinator, Southern Region, Planning, 1720 Peachtree Road, NW., Atlanta, Georgia 30309, Phone: 404-347-5235.

SUPPLEMENTARY INFORMATION: Deciding Officers in the Southern Region, Daniel Boone National Forest will give legal notice of decisions subject to appeal under 36 CFR part 217 in the following newspapers which are listed by Forest Service Administrative unit. The timeframe for appeal shall be based on the date of publication of the legal notice of the decision in the newspaper of record. The following newspapers will be used to provide notice.

Southern Region

Daniel Boone National Forest, Kentucky

Forest Supervisor Decisions:

Lexington Herald-Leader, published daily in Lexington, KY

District Ranger Decisions:

Cumberland Ranger District: Lexington Herald-Ledger, published daily in Lexington, KY

London Ranger District: The Sentinel-Echo, published tri-weekly (Monday, Wednesday and Friday) in London, KY

Redbird Ranger District: Manchester Enterprise, published weekly (Thursday) in Manchester, KY

Stearns Ranger District: McCreary County Record, published weekly (Tuesday) in Whitley City, KY

Dated: February 13, 2006.
Melvin R. Booker,
Deputy Regional Forester.

[FR Doc. 06-1593 Filed 2-21-06; 8:45 am]

BILLING CODE 3410-11-M